DEPARTMENT OF TRANSPORTATION

Coast Guard

33 CFR Part 165

[COTP Western Alaska 02-001]

RIN 2115-AA97

Security Zone; Liquefied Natural Gas Tankers, Cook Inlet, AK

AGENCY: Coast Guard, DOT.

ACTION: Interim rule; request for comments.

SUMMARY: The Coast Guard is establishing permanent security zones for Liquefied Natural Gas (LNG) tankers within the Western Alaska Marine Inspection Zone and Captain of the Port Zone. This rule establishes a 1000-yard radius security zone around the LNG tankers while they are moored at Phillips Petroleum LNG Pier and also while they are transiting inbound and outbound in the waters of Cook Inlet, AK between Phillips Petroleum LNG Pier and the Homer Pilot Station. This action is necessary to protect the LNG tankers, Nikiski marine terminals, the community of Nikiski and the maritime community against terrorism, sabotage or other subversive acts and incidents of a similar nature during loading operations and inbound and outbound transits of the LNG tankers. These security zones temporarily close all navigable waters within a 1000-yard radius of the tankers.

DATES: Effective July 6, 2002, except for § 165.1709 (b)(1)(ii) which contains information collection requirements that have not been approved by OMB. We will publish a document in the Federal Register announcing the effective date of this paragraph. Comments and related material must reach the Docket Management Facility on or before September 30, 2002. Comments sent to the Office of Management and Budget (OMB) on collection of information must reach OMB on or before September 30, 2002.

ADDRESSES: Comments and material received from the public, as well as documents indicated in this preamble as being available in the docket, are part of docket (COTP Western Alaska 02-001) and are available for inspection or copying at the Coast Guard Marine Safety Office at 510 L Street, Suite 100, Anchorage, AK 99501 between 7:30 a.m. and 4 p.m., Monday through Friday, except Federal holidays.

FOR FURTHER INFORMATION CONTACT: Lieutenant Mark McManus, USCG Marine Safety Detachment Kenai, at (907) 283-3292 or Lieutenant Commander Chris Woodley, USCG Marine Safety Office Anchorage, at (907) 271-6700.

SUPPLEMENTARY INFORMATION:

Regulatory Information

On April 25, 2002, we published a notice of proposed rulemaking (NPRM) entitled “Security Zone, Liquefied Natural Gas Tankers, Cook Inlet, AK” in the Federal Register (67 FR 20474). We received six letters commenting on the proposed rule. No public hearing was requested, and none was held.

Under 5 U.S.C. 553(d)(3), the Coast Guard finds that good cause exists for making this rule effective less than 30 days after publication in the Federal Register. Threats of terrorist attacks on the maritime infrastructure have heightened security concerns in United States ports. Due to the flammable nature of LNG tankers, it is important to develop this rulemaking and implement security measures without delay to prevent possible sabotage, subversive activity and terrorist attacks to the LNG tankers. The delay encountered, if normal rulemaking procedures were followed, would be contrary to the public interest. We must take immediate action to protect the LNG tankers, Port Nikiski, and persons and property in the maritime community from potential hazards. In addition, a commercial fisheries opening commences on July 8, 2002, in Cook Inlet and set netters fish in the waters underneath and surrounding the LNG pier. This rule must go into effect prior to this opening so that we may collect the necessary information from the fishermen to avoid disruption of their commercial business.

Background and Purpose

The Coast Guard is establishing permanent security zones to safeguard LNG tankers, Nikiski marine terminals, the community of Nikiski, and the maritime community from sabotage or subversive acts and incidents of a similar nature.

This rule establishes a 1000-yard radius security zone around LNG tankers while the vessels are moored at the Phillips Petroleum LNG Pier, Nikiski, AK. It also creates a 1000-yard radius moving security zone around the LNG tankers during their inbound and outbound transits in the navigable waters of the United States; specifically, starting and ending at the Homer Pilot Station in Cook Inlet, AK. The security zones are designed to permit the safe and timely mooring, loading and departure of the vessels and the safe transit through Cook Inlet by minimizing potential waterborne threats to this operation. The limited size of the zone is designed to minimize impact on other mariners transiting through the area while ensuring public safety by preventing interference with the safe and secure loading and transit of the tankers.

This rule also requires a collection of information from fishing vessel operators and owners that conduct fishing operations in the vicinity of the LNG pier. Fishing vessel operators and owners will be required to submit this information only one time, but are required to notify the Marine Safety Detachment Kenai, Alaska if any of the information changes.

Discussion of Comments and Changes

We received 6 letters containing 10 comments in response to our NPRM. The information in this section discusses the comments we received, provides the Coast Guard's response, and explains any changes we are making to the regulation.

One comment supported the establishment of a permanent security zone around LNG vessels.

Four comments requested that it be known for the record that the set net fishermen using the area around the Phillips Petroleum LNG pier, and other Nikiski marine terminals, started fishing in these waters and had fishermen's leases with the State of Alaska, before the aforementioned facilities were built.

Four comments stated that they did not expect the security zone, as it stands now, to interfere with their commercial fishing business.

One comment said it was unclear as to whether the security zone in § 165.1709(b)(ii)(C) includes both security zones. The stated section has been moved to § 165.1709(b)(ii)(D) and includes the security zone around the Phillips Petroleum LNG Pier. We have added wording to the new section to clarify this point.

We made two changes to the regulation as proposed in the NPRM. Because these changes were not subject to comment, we are issuing an interim rule with request for comments on these two changes.

We changed § 165.1709(b)(3), concerning broadcasting a Notice to Mariners informing vessel operators of the LNG tankers' exact arrivals and departures. Due to security reasons, the LNG tankers exact arrivals and departures will not be broadcast. Instead, we will issue a Local Notice to Mariners with general information and a bimonthly Broadcast Notice to Mariners to remind vessel operators of the security zones for the LNG tankers.

The second change we made was to § 165.1709(b)(1)(ii)(C). We moved the original sentence to § 165.1709(b)(1)(ii)(D) and added § 165.1709(b)(1)(ii)(E). We then added a new sentence to § 165.1709(b)(1)(ii)(C) to clarify how often and when we need to collect information from fishing vessel operators and owners before allowing them to fish in the security zone.

Regulatory Evaluation

This rule is not a “significant regulatory action” under section 3(f) of Executive Order 12886, Regulatory Planning and Review, and does not require an assessment of potential costs and benefits under section 6(a)(3) of that Order. The Office of Management and Budget has not reviewed it under that Order. It is not “significant” under the regulatory policies and procedures of the Department of Transportation (DOT) (44 FR 11040, February 26, 1979). We expect the economic impact of this rule to be so minimal that a full Regulatory Evaluation under paragraph 10(e) of the regulatory policies and procedures of DOT is unnecessary. This finding is based on the minimal time that vessels will be restricted from the zone, that vessels may still transit through the waters of Cook Inlet and dock at other Nikiski marine terminals.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: the owners or operators of vessels intending to transit or anchor in the vicinity of the Phillips Petroleum LNG Pier during the time this zone is activated; and the owners or operators of fishing vessels operating their nets in the vicinity of the Phillips Petroleum LNG Pier during the months of July through August.

These security zones will not have a significant economic impact on a substantial number of small entities for the following reasons. Marine traffic will still be able to transit through Cook Inlet during the zones' activation. Additionally, vessels with cargo to load or unload from other Nikiski marine terminals in the vicinity of the zone will not be precluded from mooring at or getting underway from the terminals. The owners of fishing vessels that typically fish in the vicinity of the LNG pier during the summer months will not be prohibited from operating if they notify and provide information to the Coast Guard Marine Safety Detachment in Kenai before fishing in the security zone. The Coast Guard will collect information from them that is essential to keeping the pier secure from sabotage or subversive activities.

Collection of Information

This rule modifies an existing collection of information under the Paperwork Reduction Act of 1995 (44 U.S.C. 3501-3520). As defined in 5 CFR 1320.3(c), “collection of information” comprises reporting, recordkeeping, monitoring, posting, labeling, and other similar actions. We did not receive any comments on Collection of Information.

The Captain of the Port, Western Alaska requires information on fishing vessel owners and operators, and their vessels, desiring to fish in the security zone around the Phillips Petroleum LNG Pier. This information is required to ensure port and vessel safety and security and to ensure uninterrupted fishing industry openings and to control vessel traffic, develop contingency plans, and enforce regulations.

You are not required to respond to a collection of information unless it displays a currently valid control number from OMB.

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Consultation and Coordination With Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this rule and concluded that under figure 2-1, paragraph 34(g), of Commandant Instruction M16475.1D, this rule is categorically excluded from further environmental documentation. This rule fits paragraph 34(g) as it establishes a security zone. A “Categorical Exclusion Determination” is available in the docket for inspection or copying where indicated under ADDRESSES.

List of Subjects in 33 CFR Part 165

Harbors, Marine safety, Navigation (water), Reporting and Record keeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add § 165.1709 to read as follows:

§ 165.1709 Security Zones: Liquefied Natural Gas Tanker Transits and Operations at Phillips Petroleum LNG Pier, Cook Inlet, AK.

(a) Location. The following areas are established as security zones during the specified conditions:

(1) All navigable waters within a 1000-yard radius of the Liquefied Natural Gas (LNG) tankers during their inbound and outbound transits through Cook Inlet, Alaska between the Phillips Petroleum LNG Pier, 60°40′43″N and 151°24′10″W, and the Homer Pilot Station at 59°34′86″N and 151°25′74″W. On the inbound transit, this security zone remains in effect until the tanker is alongside the Phillips Petroleum LNG Pier, 60°40′43″N and 151°24′10″W.

(2) All navigable waters within a 1000-yard radius of the Liquefied Natural Gas tankers while they are moored at Phillips Petroleum LNG Pier, 60°40′43″N and 151°24′10″W.

(b) Special Regulations. (1) For the purpose of this section, the general regulations contained in 33 CFR 165.33 apply to all but the following vessels in the areas described in paragraph (a):

(i) Vessels scheduled to moor and offload or load cargo at other Nikiski marine terminals that have provided the Coast Guard with an Advance Notice of Arrival.

(ii) Commercial fishing vessels, including drift net and set net vessels, fishing from the waters within the zone, if

(A) The owner of the vessel has previously requested approval from the Captain of the Port representative, Marine Safety Detachment Kenai, Alaska, to fish in the security zone and

(B) Has provided the Captain of the Port representative, Marine Safety Detachment Kenai, Alaska current information about the vessel, including:

(1) The name and/or the official number, if documented, or state number, if numbered by a state issuing authority;

(2) A brief description of the vessel, including length, color, and type of vessel;

(3) The name, Social Security number, current address, and telephone number of the vessel's master, operator or person in charge; and

(4) Upon request, information on the vessel's crew.

(C) A vessel owner or operator is required to submit the information one time, but shall provide the Captain of the Port representative updated information when any part of it changes.

(D) The Captain of the Port must approve a vessel's request prior to being allowed into the security zone at the Phillips Petroleum LNG Pier.

(E) The vessel is operated in compliance with any specific orders issued to the vessel by the Captain of the Port or other regulations controlling the operation of vessels within the security zone that may be in effect.

(2) All persons and vessels shall comply with the instructions of the Captain of the Port representative or the designated on-scene patrol personnel. These personnel are comprised of commissioned, warrant, and petty officers of the Coast Guard. Upon being hailed by a U. S. Coast Guard vessel by siren, radio, flashing light, or other means, the operator of a vessel shall proceed as directed.

(3) The Marine Safety Detachment Kenai, Alaska will notify the maritime community of these security zones by publishing a Local Notice to Mariners and via a bimonthly marine Broadcast Notice to Mariners.

Dated: June 12, 2002.
W.J. Hutmacher,
Captain, U.S. Coast Guard, Captain of the Port, Western Alaska.

[FR Doc. 02-16394 Filed 6-28-02; 8:45 am]

BILLING CODE 4910-15-P